DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Applications and Reporting Requirements for Small Takes of Marine Mammals by Specified Activities Under the Marine Mammal Protection Act.

Form Number(s): None.

OMB Approval Number: 0648-0151.

Type of Request: Regular submission.

Burden Hours: 20,456.

Number of Respondents: 72.

Average Hours Per Response: Petition for Regulations, 483 hours; simple LOA application, 3 hours; simple LOA report, 20 hours; complex LOA application, 120 hours; complex LOA report, 285 hours; simple IHA application, 160 hours; simple IHA report, 120 hours; complex IHA application, 285 hours; complex IHA report, 325 hours.

Needs and Uses: The “taking” by harassment, injury, or mortality of marine mammals is prohibited by the Marine Mammal Protection Act (MMPA) unless exempted or authorized by a permit. The small-take program authorized the taking of marine mammals incidental to maritime activities (oil industry, shipping). It is the responsibility of the activity to determine if it might have a “taking” and, if it does, to apply for an authorization. Applications are necessary for NMFS to know that an authorization is needed and to determine whether authorization can be made under the MMPA. The reporting requirements are mandated by the MMPA and are necessary to ensure that determinations made in regard to the impact on marine mammals are valid.

Affected Public: Business or other for-profit organizations; not-for-profit institutions; Federal Government; State, Local or Tribal Government.

Frequency: Annually, quarterly, and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 14, 2007.
Gwellnar Banks,
Management Analyst, Office of the Chief Information Officer.

[FR Doc. E7-11765 Filed 6-18-07; 8:45 am]

BILLING CODE 3510-22-P